DEPARTMENT OF COMMERCE

Foreign-Trade Zones Board

[B-69-2017]

Foreign-Trade Zone (FTZ) 52—Suffolk County, New York; Notification of Proposed Production Activity; Estee Lauder Inc., (Hair Straightening Styling Balm), Melville, New York

Estee Lauder Inc. (Estee Lauder) submitted a notification of proposed production activity to the FTZ Board for its facilities in Melville, New York within FTZ 52. The notification conforming to the requirements of the regulations of the FTZ Board (15 CFR 400.22) was received on November 2, 2017.

Estee Lauder already has authority to manufacture and distribute skin care, fragrance, and cosmetic products within FTZ 52. The current request would add a finished product (hair straightening styling balm) to the scope of authority. Pursuant to 15 CFR 400.14(b), additional FTZ authority would be limited to the finished product described in the submitted notification (as described below) and subsequently authorized by the FTZ Board.

Production under FTZ procedures could exempt Estee Lauder from customs duty payments on the foreign-status materials/components used in export production. On its domestic sales, for foreign-status materials/components in the existing scope of authority, Estee Lauder would be able to choose the duty rate during customs entry procedures that applies to hair straightening styling balm (duty-free). Estee Lauder would be able to avoid duty on foreign-status components which become scrap/waste. Customs duties also could possibly be deferred or reduced on foreign-status production equipment.

Public comment is invited from interested parties. Submissions shall be addressed to the Board's Executive Secretary at the address below. The closing period for their receipt is December 27, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Juanita Chen at Juanita.Chen@trade.gov or (202) 482-1378.

Dated: November 13, 2017.
Andrew McGilvray,
Executive Secretary.

[FR Doc. 2017-24972 Filed 11-16-17; 8:45 am]

BILLING CODE 3510-DS-P